DEFENSE NUCLEAR FACILITIES SAFETY BOARD

Sunshine Act Meetings

FEDERAL REGISTER CITATION OF PREVIOUS ANNOUNCEMENT: 77 FR 48970, August 15, 2012.

PREVIOUSLY ANNOUNCED TIME AND DATE OF MEETING AND HEARING: Session I: 1 p.m.-5 p.m., October 2, 2012; Session II: 6:30 p.m.-9 p.m., October 2, 2012.

CHANGES TO OPEN MEETING AND HEARING: The Defense Nuclear Facilities Safety Board (Board) published a notice in the Federal Register of August 15, 2012, (77 FR 48970), concerning a two-session public meeting and hearing on October 2, 2012, at the Knoxville Convention Center, 701 Henley Street, Knoxville, Tennessee 37902. The Board changes that notice as follows: (1) The Board is postponing the hearing session concerning nuclear operations at existing Y-12 defense nuclear facilities, the effectiveness of the National Nuclear Security Administration's oversight for these activities, and the status of site-wide emergency preparedness. That session will be rescheduled as a separate open meeting and hearing at a time and place to be determined at a later date; (2) The Board will now limit the meeting and hearing to receive testimony regarding factors that could affect the timely execution and safety of the Uranium Processing Facility (UPF) project. These factors include the Department of Energy (DOE) project team's strategy for identifying and resolving safety issues in a timely manner, the potential safety impacts of DOE's decision to accelerate the acquisition of select processing capabilities and defer others to a later date, and the potential for weaknesses in technology development to impact safety; (3) The Board is convening the meeting and hearing concerning the UPF project from 1 p.m.-5 p.m. There will be no evening Session. The date and place of the meeting and hearing remains unchanged. The public hearing portion of this proceeding is authorized by 42 U.S.C. 2286b.

CONTACT PERSON FOR MORE INFORMATION: Debra Richardson, Deputy General Manager, Defense Nuclear Facilities Safety Board, 625 Indiana Avenue NW., Suite 700, Washington, DC 20004-2901, (800) 788-4016. This is a toll-free number.

Dated: September 4, 2012.
Peter S. Winokur,
Chairman.

[FR Doc. 2012-22187 Filed 9-5-12; 4:15 pm]

BILLING CODE 3670-01-P